DEPARTMENT OF DEFENSE

Department of the Army

Availability for Non-Exclusive, Exclusive, or Partially Exclusive Licensing of U.S. Patent Application Concerning Temperature-Regulated Cell Perfusion Chamber

AGENCY: Department of the Army, DoD.

ACTION: Notice.

SUMMARY: In accordance with 37 CFR 404.6, announcement is made of the availability for licensing of U.S. Patent Application No. 09/571, 1406 entitled “Temperature-Regulated Cell Perfusion Chamber” filed May 15, 2000. The United States Government as represented by the Secretary of the Army has rights in this invention.

ADDRESSES: Commander, U.S. Army Medical Research and Material Command, ATTN: Command Judge Advocate, MCMR-JA, 504 Scott Street, Fort Detrick, Frederick, Maryland 21702-5012.

FOR FURTHER INFORMATION CONTACT: For patent issues, Ms. Elizabeth Arwine, Patent Attorney, (301) 619-7808. For licensing issues, Dr. Paul Mele, Office of Research & Technology Assessment, (301) 619-6664, both at telefax (301) 619-5034.

SUPPLEMENTARY INFORMATION: A cell perfusion chamber structure capable of continuously monitoring processes during polymerase change reaction includes a cell chamber body having a support surface with an aperture defined through the support surface and wall structure extending upwardly from the support surface to define an interior. The wall structure includes passages therein. A gasket is disposed on the support surface so as not to cover the aperture. A first transparent cover is disposed on the gasket so as to cover the aperture. A water bath body is provided and has a first portion and a second portion extending from the first portion. The first portion defines a second support surface. The second portion is received in the interior of the cell chamber body and is in interference fit arrangement with the wall structure. The water bath body has an interior support surface with an aperture there through. The aperture extends through the first and second portions. The first portion has first pots therein which communicate with the aperture of the water bath body. The second portion includes second ports therein which communicate with the aperture of the water bath body and with associated passages in the cell chamber body. A second transparent cover is disposed on the interior support surface of the water bath body so as to divide the aperture of the water bath body into first and second portions. The second transparent cover covers the second portion of the aperture to define a sealed cell chamber enclosed by the second transparent cover, the first transparent cover and surfaces of the cell chamber body. A transparent window is disposed on the second support surface to cover the first portion of the aperture to define a water bath chamber enclosed by the transparent window, the second cover and surfaces of the water bath body. Whereby fluid may enter and exit the water bath chamber via first ports and perfusion fluid may enter and exit the cell chamber via the second ports.

Luz D. Ortiz,
Army Federal Register Liaison Officer.

[FR Doc. 02-4182 Filed 2-20-02; 8:45 am]

BILLING CODE 3710-08-M